DEPARTMENT OF ENERGY

Federal Energy Regulatory Commission

[Docket Nos. CP20-68-000; CP20-70-000]

Enable Gas Transmission, LLC; Enable Gulf Run Transmission, LLC; Notice of Revised Schedule for Environmental Review of The Gulf Run and Line CP Modifications Project

This notice identifies the Federal Energy Regulatory Commission staff's revised schedule for the completion of the environmental assessment (EA) for Enable Gas Transmission, LLC and Enable Gulf Run Transmission, LLC (collectively, Enable) Gulf Run and Line CP Modifications Project. The first notice of schedule, issued on April 28, 2020, identified July 31, 2020 as the EA issuance date. However, Enable filed supplemental information on June 23, 2020 related to certain modifications to its project. In addition, the U.S. Army Corps of Engineers (USACE) recently requested cooperating agency status for the project to ensure that the EA addresses the USACE National Environmental Policy Act requirements for processing Enable's June 4, 2020 USACE application for a Clean Water Act Section 404 Individual Permit for the project. This change is in response to the court vacatur, in April 2020, of the Nationwide Permit 12 Program. As a result, Commission staff has revised the schedule for issuance of the EA.

Schedule for Environmental Review

Issuance of the EA October 29, 2020

90-day Federal Authorization Decision Deadline January 27, 2021

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the eLibrary link, enter the “Docket Number” excluding the last three digits (i.e., CP20-68 or -70), select a date range, and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 7, 2020.
Kimberly D. Bose,
Secretary.

[FR Doc. 2020-15025 Filed 7-10-20; 8:45 am]

BILLING CODE 6717-01-P